DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before November 12, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on October 1, 2024.
Donald P. Burger,
Chief, General Approvals and Permits Branch.

Special Permits Data—Granted
Application No. | Applicant | Regulation(s) affected | Nature of the special permits thereof
16118-M | Toyota Motor Sales USA Inc | 173.301(a)(1) | To modify the special permit to align with the provisions in the UN Model Regulations, Special Provision 392.
21547-M | Mazda Motor of America, Inc | 172.101(j) | To modify the special permit to authorize an additional lithium battery.
21683-N | Colep Packaging Portugal, S.A | 178.33-7(a), 178.33a-7(a) | To authorize the manufacture, mark, sale, and use of non-DOT specification receptacles with reduced wall thickness.
21731-N | Inversion Space Company | 173.185(b), 173.62(c), 177.848(b) | To authorize the transportation in commerce of certain hazardous materials in non-DOT specification packaging (spacecraft) and limited quantities of Division 1.4S and 1.4C explosives secured within the spacecraft.
21737-N | Remolques Tanques y Equipos, S.A. DE C.V | 178.345-2 | To authorize the manufacture, mark, sale, and use of DOT 406, 407, and 412 specification cargo tanks using alternative materials of construction.
21790-N | Seattle Children's Hospital | 173.199, 178.609(d) | To authorize the transportation in commerce of live mice infected with Mycobacterium tuberculosis (a Category B infectious substance).
21799-N | Nebraska Central Railroad Company | 172.203(a), 174.24(a), 174.24(b), 174.24, 174.26(a), 174.26(b), 174.26 | To authorize the use of electronic means to maintain and communicate on board train consist information in lieu of paper documentation when hazardous materials are transported by rail.
21808-N | Albedo Space Corp | 173.301(f)(1) | To authorize the transportation in commerce of spacecraft containing specification cylinders that are not equipped with pressure relief devices.
21829-N | Tatonduk Outfitters Limited | 172.101(j)(2), 173.242, 173.27 | To authorize the transportation in commerce of certain Class 3 hazardous materials in non-DOT specification bulk packaging aboard cargo-only aircraft.
21830-N | Everts Air Fuel, Inc | 172.101(j), 173.242, 173.27 | To authorize the transportation in commerce of certain Class 3 hazardous materials in non-DOT specification bulk packaging aboard cargo-only aircraft.
21839-N | Kraken Power GmbH | 172.101(j) | To authorize the transportation in commerce of lithium ion batteries exceeding 35 kg aboard cargo-only aircraft.
21845-N | Polyventive LLC | 172.506(a), 172.506(a)(1), 172.101(e), 173.241(d) | To authorize the one-time, one-way transportation of a leaking container for the purpose of repacking.
21850-N | Reflex Aerospace GmbH | 173.185(a) | To authorize the transportation in commerce of prototype lithium ion batteries contained in equipment by cargo-only aircraft.
21860-N | Veolia ES Technical Solutions LLC | 173.21(b), 173.51, 173.54(a), 173.56(b) | To authorize the one-time, one-way transportation in commerce of unapproved explosives for final destruction.

Special Permits Data—Denied
Application No. | Applicant | Regulation(s) affected | Nature of the special permits thereof
15773-M | Roche Molecular Systems, Inc | 173.242(e)(1) | To modify the special permit to remove the requirement that the special permit accompany the shipment.
21352-N | Veolia North America Regeneration Services, LLC | 173.244(a)(2), 173.31(e)(2)(ii), 179.22(e) | To authorize the transportation in commerce of certain PIH materials in 105J500W specification tank cars that were originally manufactured prior to March 16, 2009, and have been modified to meet the current specification requirements for DOT 105H500W tank cars.
21832-N | Larosa Enterprise, LLC | 173.306(a)(1) | To authorize the transportation in commerce of butane as limited quantities when the capacity of the receptacle exceeds four fluid ounces.

Special Permits Data—Withdrawn
Application No. | Applicant | Regulation(s) affected | Nature of the special permits thereof
21611-N | Cenergy Solutions Inc | 172.101(a), 173.302 | To authorize the use of MMC-331 vessels for the transportation of adsorbed methane by highway.
21678-M | Moxion Power Co | 172.102(c)(1) | To modify the special permit to authorize international transportation aboard aircraft.
21809-N | Bhiwadi Cylinders Private Limited | 173.304a(a)(1) | To authorize the manufacture, mark, sale, and use of non-specification inner containers similar to specification DOT 2Q inner containers.
21821-N | Sandvik, Inc | 172.101(j) | To authorize the transportation in commerce of lithium ion batteries exceeding 35kg by cargo-only aircraft.
21841-N | General Dynamics Land Systems Edgefield Test Center | 172.204(c)(3), 172.101(k)(9), 173.27(b)(2), 173.27(b)(3) | To authorize the transportation of UN0328 and UN0417 which are forbidden by cargo-only aircraft by cargo-only aircraft.

[FR Doc. 2024-23406 Filed 10-9-24; 8:45 am]

BILLING CODE 4910-60-P